DEPARTMENT OF COMMERCE

National Oceanic and Atmospheric Administration

RIN 0648-AW91

Taking and Importing Marine Mammals; U.S. Navy Training in the Northwest Training Range Complex

AGENCY: National Marine Fisheries Service (NMFS), National Oceanic and Atmospheric Administration (NOAA), Commerce.

ACTION: Notice of issuance of a Letter of Authorization.

SUMMARY: In accordance with the Marine Mammal Protection Act (MMPA), as amended, and implementing regulations, notice is hereby given that NMFS has issued a Letter of Authorization (LOA) to the U.S. Navy (Navy) to take marine mammals incidental to Navy training and research activities to be conducted within the Northwest Training Range Complex (NWTRC), off the coasts of Washington, Oregon, and northern California. These activities are considered military readiness activities pursuant to the Marine Mammal Protection Act (MMPA), as amended by the National Defense Authorization Act of 2004 (NDAA).

DATES: This Authorization is effective from November 12, 2011, through November 11, 2012.

ADDRESSES: The LOA and supporting documentation may be obtained by writing to P. Michael Payne, Office of Protected Resources, NMFS, 1315 East-West Highway, Silver Spring, MD 20910, or by telephoning one of the contacts listed here.

FOR FURTHER INFORMATION CONTACT: Michelle Magliocca, Office of Protected Resources, NMFS, (301) 427-8401.

SUPPLEMENTARY INFORMATION:

Background

Section 101(a)(5)(A) of the MMPA (16 U.S.C. 1361 et seq.) directs NMFS to allow, upon request, the incidental taking of marine mammals by U.S. citizens who engage in a specified activity (other than commercial fishing), if certain findings are made by NMFS and regulations are issued. Under the MMPA, the term “take” means to harass, hunt, capture, or kill or to attempt to harass, hunt, capture, or kill marine mammals.

Regulations governing the taking of marine mammals by the Navy incidental to training and research activities in the NWTRC became effective on November 10, 2010 (75 FR 69296), and remain in effect through November 9, 2015. For detailed information on this action, please refer to that document. These regulations include mitigation, monitoring, and reporting requirements and establish a framework to authorize incidental take through the issuance of LOAs.

Summary of Request

On June 27, 2011, NMFS received a request from the Navy for a renewal of an LOA issued on November 12, 2010, for the taking of marine mammals incidental to training and research activities conducted within the NWTRC under regulations issued on November 10, 2010 (75 FR 69296). The Navy has complied with the measures required in 50 CFR 216.274 and 216.275, as well as the associated 2010 LOA, and submitted the reports and other documentation required in the final rule and the 2010 LOA.

Summary of Activity Under the 2010 LOA

As described in the Navy's exercise reports (both classified and unclassified), from November 12, 2010 to May 1, 2011, the training activities conducted by the Navy were within the scope and amounts indicated in the 2010 LOA and the levels of take remain within the scope and amounts contemplated by the final rule.

Planned Activities and Estimated Take for 2011

In 2011, the Navy expects to conduct the same type and amount of training identified in the 2010 LOA. While the Navy requested the same amount of take that was authorized in the 2010 LOA, NMFS has slightly adjusted those numbers to account for the exposure analysis contained in the Biological Opinion. However, the authorized take remains within the annual estimates analyzed in the final rule.

Summary of Monitoring, Reporting, and other Requirements Under the 2010 LOA Annual Exercise Reports

The Navy submitted their classified and unclassified 2010 exercise reports within the required timeframes and the unclassified report is posted on NMFS Web site: http://www.nmfs.noaa.gov/pr/permits/incidental.htm. NMFS has reviewed both reports and they contain the information required by the 2010 LOA. The reports indicate the amounts of different types of training that occurred from November 12, 2010, to May 1, 2011. The Navy conducted zero Sinking Exercises (SINKEX) and all other exercise types conducted (classified data) fell within the amount indicated in the LOA.

2010 Monitoring

The Navy conducted the monitoring required by the 2010 LOA and described in the Monitoring Plan, which included passive acoustic monitoring utilizing high-frequency acoustic recording packages (HARPs) and marine mammal tagging and tracking. The Navy submitted their 2010 Monitoring Report, which is posted on NMFS' Web site (http://www.nmfs.noaa.gov/pr/permits/incidental.htm), within the required timeframe. Because data is gathered through May 1 and the report is due in July, some of the data analysis will occur in the subsequent year's report. Navy-funded marine mammal monitoring accomplishments within NWTRC for the past year consisted of the following:

Passive Acoustic Monitoring

Two high-frequency acoustic monitoring packages (HARP) were deployed by Scripps Institute of Oceanography (SIO) within the NWTRC. The first HARP was deployed in January 2011 approximately 25 nm from the coast in the southern part of NOAA's Olympic Coast National Marine Sanctuary. SIO has had HARPs in the same approximate location periodically since 2004. A second HARP was deployed in May 2011 near the edge of an underwater canyon west of the Olympic Coast National Marine Sanctuary boundary. Vocalization data from these HARPs is currently undergoing analysis by SIO and results will be presented in next year's Monitoring Report.

Tagging

The Navy purchased a total of 10 satellite tracking tags suitable for deployment on a number of marine mammal species within the NWTRC. Field deployment for tagging marine mammals should occur before the end of summer 2011 and will result in a three-year joint project between the Navy, NMFS, Cascadia Research Collective, Washington Department of Fish and Wildlife, and Oregon Department of Fish and Wildlife.

In conclusion, the Navy successfully implemented the monitoring requirements for the NWTRC by the end of the first monitoring period. Over the next year, the Navy will continue to maintain the two HARPs that are currently in the water, while analyzing and presenting results from previously recorded data. Furthermore, the Navy will continue the joint tagging study of marine species within the NWTRC.

Adaptive Management

The Navy's adaptive management of the NWTRC monitoring program involves close coordination with NMFS to align marine mammal monitoring with the overall objectives of the monitoring plan. Monitoring under the 2010 LOA only represents the beginning of the first year of a planned five-year effort. Therefore, it would be premature to draw detailed conclusions or initiate comprehensive monitoring changes before more monitoring and data analysis is complete.

Authorization

The Navy complied with the requirements of the 2010 LOA. Based on our review of the record, NMFS has determined that the marine mammal take resulting from the 2010 military readiness training and research activities falls within the levels previously anticipated, analyzed, and authorized. Further, the level of taking authorized in 2011 for the Navy's NWTRC activities is consistent with our previous findings made for the total taking allowed under the NWTRC regulations. Finally, the record supports NMFS' conclusion that the total number of marine mammals taken by the 2010 activities in the NWTRC will have no more than a negligible impact on the affected species or stock of marine mammals and will not have an unmitigable adverse impact on the availability of these species or stocks for taking for subsistence uses. Accordingly, NMFS has issued an LOA for Navy training and research activities conducted in the NWTRC from November 12, 2011, through November 11, 2012.

Dated: November 9, 2011.
James H. Lecky,
Deputy Director, Office of Protected Resources, National Marine Fisheries Service.

[FR Doc. 2011-29614 Filed 11-15-11; 8:45 am]

BILLING CODE 3510-22-P